DEPARTMENT OF THE INTERIOR

Bureau of Indian Affairs

Notice of Cancellation of the Environmental Impact Statement for the Proposed Operations and Maintenance of the Flathead Indian Irrigation Project Upon Transfer in Favor of Preparation of an Environmental Assessment, Flathead, Lake, Missoula and Sanders Counties, MO

AGENCY: Bureau of Indian Affairs, Interior.

ACTION: Notice.

SUMMARY: This notice advises the public that the Bureau of Indian Affairs (BIA) intends to prepare an Environmental Assessment (EA) instead of an Environmental Impact Statement (EIS) for the proposed operations and maintenance of the Flathead Indian Irrigation Project upon transfer. This notice also announces a public comment period. The purpose of this notice and public comment period is to obtain additional suggestions and information from other agencies and the public regarding BIA's intention to prepare an EA instead of an EIS. Because the BIA has already held public meetings to satisfy scoping requirements for preparation of an EIS, and the subject matter of the EA is identical, at this time, the BIA does not intend to hold additional public meetings. However, if the need for additional public meetings becomes evident through public comment or otherwise, the BIA will hold additional public meetings.

DATES: Comments on the implementation of this proposal must be received before November 13, 2006.

ADDRESSES: Mail or hand deliver written comments to Mr. Travis Teegarden, Project Manager, Branch of Irrigation, Power, and Safety of Dams, Natural Resources Division, Office of Trust Services, Bureau of Indian Affairs, 490 N. 31st Street, Suite 203, Billings, MT 59101. You may also fax comments to Mr. Travis Teegarden at (406) 657-5988.

FOR FURTHER INFORMATION CONTACT: Mr. Travis Teegarden, (406) 657-5987.

SUPPLEMENTARY INFORMATION: The Flathead Indian Irrigation Project (Project) is located on the Flathead Indian Reservation in northwestern Montana. The Secretary of the Interior (Secretary) is required to transfer the operations and management of the Project as provided by the Act of May 29, 1908, Public Law 60-156, 35 Stat. 441 (the 1908 Act) and the Act of May 25, 1948, Public Law 80-554, 62 Stat. 269 (the 1948 Act).

In 1904, the Flathead Indian Allotment Act authorized allotments of land within the Flathead Indian Reservation to members of the Confederated Salish and Kootenai Tribes (Tribes) and construction of the Flathead Indian Irrigation Project for “the benefit of Indians” on the Flathead Indian Reservation (33 Stat. 302). When this Act was amended in 1908, it also authorized the construction of irrigation systems to serve homesteaded lands within the Flathead Indian Reservation and provided for turnover of the operation and management of irrigation works serving non-Indian lands when certain Project construction repayment conditions had been met (35 Stat. 450). Further, upon turnover of the project, the 1948 Act called for the operation and management of the Project under rules and regulations approved by the Secretary.

As of August 2002, there were 134,788 total acres in the project; 127,535 of which were assessed acres, with 7,252 designated as temporarily non-assessed acres. Approximately 10 percent of the Project's irrigated lands are held in trust by the United States for the benefit of individual Indian landowners and for the Confederated Salish and Kootenai Tribes. Trust land totals 11,771 acres, while land in fee status totals 115,764 acres. The primary source of the water for the Project originates from the Mission Mountains which border the east side of the reservation. The Project facilities include 17 major storage reservoirs, 1,300 miles of canals and laterals and more than 10,000 structures. The Project is divided into the Mission, Post, Pablo, Camas, and Jocko divisions. Primary irrigated crops are hay and alfalfa, grains, potatoes, canola, and some fruit orchards.

Currently, the BIA's Flathead Agency Superintendent is the Officer-in-Charge of the Project and administers activities through the Irrigation Systems Manager. The Irrigation Systems Manager supervises the operation and maintenance of the Project works.

Non-Indian irrigation interests are represented by three irrigation districts, the Flathead Irrigation District, the Mission Irrigation District, and the Jocko Valley Irrigation District. These Districts signed repayment contracts with the United States in 1928, 1931, and 1934 respectively, and are collectively represented by the Flathead Joint Board of Control (FJBC), which is chartered under state law and represents only owners of fee lands. Individual Indians and the Tribes that irrigate lands held in trust by the United States are statutorily excluded from representation by the FJBC.

Repayment of Project construction conditions were fulfilled in early January 2004. The BIA, the Tribes and the FJBC are developing proposed standard operating procedures for the Project and are proposing to contract the management of the Project under a Cooperating Management Entity, made up of representatives from the FJBC and the Tribes, with the BIA providing oversight functions and maintaining its role as trustee.

The BIA has been delegated the responsibility to serve as the Lead Agency for National Environmental Policy Act compliance in connection with the proposed operations and maintenance of the Flathead Indian Irrigation Project upon transfer. Issues to be addressed in the environmental analysis include, but are not limited to, irrigation and farming, rights-of-ways, treaty-protected fisheries, aquatic habitat, biological resources, wildlife habitat, and Indian traditional and cultural properties and resources.

On June 7, 2004, the BIA issued a Notice of Intent to prepare an EIS for the proposed operations and maintenance of the Flathead Indian Irrigation Project upon transfer (69 FR 31835). The BIA held public scoping meetings on June 28, 2004, in Arlee, Montana, and June 30, 2004, in Ronan, Montana. Public comments were solicited and received by the BIA and work began on the EIS. As work on the EIS progressed, it became evident that an EA would be a more appropriate NEPA document for the proposed transfer of the operation and maintenance of the Project. Preliminary analysis of current operation and maintenance of the Project and proposed future operations and maintenance after turnover showed the two plans to be very similar and any environmental affects of the limited changes and new actions to be taken would result primarily in environmental benefits. Thus, after consultation with the Tribes, the FJBC, and the U.S. Fish and Wildlife Service, the BIA now intends to prepare an EA instead of an EIS. A biological assessment prepared in accordance with the Endangered Species Act will accompany the EA.

The proposed operations and management of the Project after transfer will be examined in the EA, including Project management control structures, certain operating and maintenance methods or procedures, system rehabilitation, and alternative water delivery regimes. The environmental issues will be substantially the same as those that were to be addressed in the EIS that was originally contemplated. A draft EA will be made available for public comment. Following consideration of public comments on the draft EA, BIA will publish a final EA. Based on the information in the final EA, BIA will either issue a finding of no significant impact (FONSI), or, if the final EA reveals significant environmental impacts, BIA will prepare an EIS.

Authority

This notice is published in accordance with Council on Environmental Quality regulations (40 CFR parts 1500 through 1508) implementing the procedural requirements of the National Environmental Policy Act of 1969, as amended (42 U.S.C. 4321 et seq.) and the Department of the Interior Manual (516 DM 1.6) and is within in the exercise of authority delegated to the Assistant Secretary—Indian Affairs by 209 DM 8.l.

Dated: September 22, 2006.
Michael D. Olsen,
Principal Deputy Assistant Secretary—Indian Affairs.

[FR Doc. E6-16720 Filed 10-10-06; 8:45 am]

BILLING CODE 4310-W7-P